DEPARTMENT OF ENERGY

Federal Energy Regulatory Commission

Combined Notice of Filings #1

May 10, 2010.

Take notice that the Commission received the following electric corporate filings:

Docket Numbers: EC10-66-000.

Applicants: Black Hills Power, Inc.

Description: Application of Black Hills Power, Inc.

Filed Date: 05/07/2010.

Accession Number: 20100507-5116.

Comment Date: 5 p.m. Eastern Time on Friday, May 28, 2010.

Take notice that the Commission received the following electric rate filings:

Docket Numbers: ER05-1232-024; ER07-1358-014.

Applicants: J.P. Morgan Ventures Energy Corporation, BE Louisiana LLC.

Description: J.P. Morgan Ventures Energy Corporation and BE Louisiana LLC's Supplement to Updated Market Power Analysis and Order No. 697 Compliance Filing.

Filed Date: 05/05/2010.

Accession Number: 20100505-5111.

Comment Date: 5 p.m. Eastern Time on Wednesday, May 26, 2010.

Docket Numbers: ER07-930-002; ER06-146-004; ER98-2782-017; ER98-2782-018; ER98-2782-019.

Applicants: AER NY-Gen, LLC; Alliance Energy Marketing, LLC; AG-Energy, LP.

Description: AER NY-Gen, LLC et al. submits market power update for the Northeast Region in compliance with Order No 697.

Filed Date: 05/06/2010.

Accession Number: 20100510-0205.

Comment Date: 5 p.m. Eastern Time on Tuesday, July 06, 2010.

Docket Numbers: ER10-1052-000.

Applicants: Public Service Electric and Gas Company.

Description: Public Service Electric and Gas Company submits an executed transmission facilities agreement with Atlantic City Electric Company substituting Original Service Agreement 1877 etc.

Filed Date: 04/29/2010.

Accession Number: 20100429-0073.

Comment Date: 5 p.m. Eastern Time on Thursday, May 20, 2010.

Docket Numbers: ER10-1207-000.

Applicants: Edgewood Energy, LLC.

Description: Edgewood Energy, LLC et al. submits Notice of Succession and revised market-based rate wholesale power sales tariff, FERC Electric Tariff, Original Volume 1.

Filed Date: 05/07/2010.

Accession Number: 20100510-0201.

Comment Date: 5 p.m. Eastern Time on Friday, May 28, 2010.

Docket Numbers: ER10-1208-000.

Applicants: Shoreham Energy, LLC.

Description: Edgewood Energy, LLC et al. submits Notice of Succession and revised market-based rate wholesale power sales tariff, FERC Electric Tariff, Original Volume 1.

Filed Date: 05/07/2010

Accession Number: 20100510-0201.

Comment Date: 5 p.m. Eastern Time on Friday, May 28, 2010.

Docket Numbers: ER10-1209-000.

Applicants: PPL Electric Utilities Corporation.

Description: PPL Electric Utilities Corporation submits revised tariff sheets to the PJM Interconnection, LLC Open Access Transmission Tariff.

Filed Date: 05/07/2010.

Accession Number: 20100510-0202.

Comment Date: 5 p.m. Eastern Time on Friday, May 28, 2010.

Docket Numbers: ER10-1210-000.

Applicants: FirstEnergy Nuclear Generation Corp.

Description: FirstEnergy Nuclear Generation Corp. submits tariff filing per 35.12: Market-Based Rate Power Sales Tariff to be effective 5/10/2010.

Filed Date: 05/10/2010.

Accession Number: 20100510-5021.

Comment Date: 5 p.m. Eastern Time on Tuesday, June 01, 2010.

Docket Numbers: ER10-1211-000.

Applicants: DTE Pontiac North, LLC.

Description: DTE Pontiac North, LLC submits tariff filing per 35.12: DTE Pontiac North—Baseline Filing to be effective 5/14/2010.

Filed Date: 05/10/2010.

Accession Number: 20100510-5064.

Comment Date: 5 p.m. Eastern Time on Tuesday, June 01, 2010.

Docket Numbers: ER10-1212-000.

Applicants: DTE River Rouge No.1, LLC.

Description: DTE River Rouge No.1, LLC submits tariff filing per 35.12: DTE River Rouge No. 1—Baseline Filing to be effective 5/14/2010.

Filed Date: 05/10/2010.

Accession Number: 20100510-5088.

Comment Date: 5 p.m. Eastern Time on Tuesday, June 01, 2010.

Docket Numbers: ER10-1213-000.

Applicants: Metro Energy, LLC.

Description: Metro Energy, LLC submits tariff filing per 35.12: Metro Energy—Baseline Filing to be effective 5/14/2010.

Filed Date: 05/10/2010.

Accession Number: 20100510-5093.

Comment Date: 5 p.m. Eastern Time on Tuesday, June 01, 2010.

Docket Numbers: ER10-1215-000.

Applicants: FirstEnergy Solutions Corp.

Description: FirstEnergy Solutions Corp. submits tariff filing per 35.12: Market-Based Rate Power Sales Tariff to be effective 5/10/2010 under ER10-01215-000 Filing Type: 370.

Filed Date: 05/10/2010.

Accession Number: 20100510-5121.

Comment Date: 5 p.m. Eastern Time on Tuesday, June 01, 2010.

Docket Numbers: ER10-1219-000.

Applicants: Southwest Power Pool, Inc.

Description: Southwest Power Pool, Inc submits an executed Large Generator Interconnection Agreement with Wichita Wind, LLC et al. under ER10-1219.

Filed Date: 05/10/2010.

Accession Number: 20100510-0212.

Comment Date: 5 p.m. Eastern Time on Tuesday, June 01, 2010.

Take notice that the Commission received the following open access transmission tariff filings:

Docket Numbers: OA08-19-003.

Applicants: Ohio Valley Electric Corporation.

Description: Compliance Filing of Ohio Valley Electric Corporation & Indiana-Kentucky Electric Corporation.

Filed Date: 05/07/2010.

Accession Number: 20100507-5120.

Comment Date: 5 p.m. Eastern Time on Friday, May 28, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-11928 Filed 5-18-10; 8:45 am]

BILLING CODE 6717-01-P